NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 19, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-018

1. Applicant: Dr. Heather Lynch, Stony Brook University IACS 163 Stony Brook, NY 11794

Activity for Which Permit Is Requested: Waste Management. The applicant seeks an Antarctic Conservation Act waste management permit for activities associated with long-term penguin research in the Weddell Sea. The applicant proposes using battery-powered, quadrotor unmanned aerial systems (UAVs) to assist in the collection of data for a multi-scale population census of penguin colonies in the Weddell Sea. Mitigation measures will be put in place to prevent loss of aircraft. These measures include UAVs being flown by trained pilots in fair-weather conditions and having stationed observers maintain visual contact with the aircraft at all times. The applicant proposes various recovery methods in the unlikely event that an aircraft is lost over land or sea. These measures will limit any potential impacts on the Antarctic environment. The applicant seeks a waste permit to cover any accidental release that may result from UAV use.

Location: Danger Islands, Weddell Sea, Antarctica.

Dates of Permitted Activities: January 1, 2022-April 1, 2022.

Erika N. Davis,
Program Specialist, Office of Polar Programs.

[FR Doc. 2021-22854 Filed 10-19-21; 8:45 am]

BILLING CODE 7555-01-P